DEPARTMENT OF HOMELAND SECURITY

U.S. Customs and Border Protection

Notice of Cancellation of Customs Broker Licenses

AGENCY: U.S. Customs and Border Protection, Department of Homeland Security.

ACTION: Customs broker license cancellations.

SUMMARY: Notice is hereby given that the customs broker licenses and any and all associated permits of certain customs brokers are being cancelled without prejudice.

SUPPLEMENTARY INFORMATION: Notice is hereby given that, pursuant to section 641 of the Tariff Act of 1930, as amended (19 U.S.C. 1641), and section 111.51(a) of title 19 of the Code of Federal Regulations (19 CFR 111.51(a)), the following customs broker licenses are cancelled without prejudice.

Last/company name | First name | License No. | Port of issuance
Gembala Customs Brokers, Inc. |  | 14353 | Boston.
Feinstein & Norris |  | 06018 | Houston.
Skelton Sherborne, Inc. |  | 23530 | Houston.
The I.C.E. Co., Inc. |  | 05641 | Houston.
A&L International Customs Brokerage |  | 28940 | Los Angeles.
Espex International, Inc. |  | 15674 | Los Angeles.
Nuno | Deborah | 05128 | Los Angeles.
Lynx Global Corp. |  | 28284 | New York.
The Boyd & Lam Company |  | 10426 | New York.
Premier Customs Brokerage, Inc. |  | 21933 | Nogales.

Dated: August 2, 2013.
Richard F. DiNucci,
Deputy Assistant Commissioner, Office of International Trade.

[FR Doc. 2013-19123 Filed 8-7-13; 8:45 am]

BILLING CODE 9111-14-P